DEPARTMENT OF HEALTH AND HUMAN SERVICES

Centers for Disease Control and Prevention

[Docket Number: NIOSH-243]

Manual Materials Handling (MMH) Workshop

AGENCY: National Institute for Occupational Safety and Health (NIOSH) of the Centers for Disease Control and Prevention (CDC), Department of Health and Human Services (HHS).

ACTION: Notice of public meeting.

SUMMARY: The National Institute for Occupational Safety and Health (NIOSH) of the Centers for Disease Control and Prevention (CDC) in partnership with the University of Cincinnati, Department of Environmental Health, will be holding a two-day Manual Materials Handling (MMH) Workshop. The Workshop is a National Occupational Research Agenda (NORA) activity organized by the Wholesale and Retail Trade Sector and the Transportation, Warehouse and Utilities Sector. The MMH Workshop goal is to stimulate through roundtable discussions the wider adoption of current, effective MMH equipment, and the development of the next generation of MMH equipment for the purposes of reducing both worker fatigue from overexertion and strains/sprains, as well as improving overall efficiency. The purpose of MMH Workshop is to develop cost effective engineering solutions for manual materials handling jobs in Retail, Wholesale and Warehouse industries.

DATES: The public meeting will be held 8 a.m. to 5 p.m., Eastern Daylight Time, October 11 through 12, 2011.

Place: Hyatt Regency Cincinnati, 151 West Fifth Street, Cincinnati, Ohio 45202, telephone (513) 579-1234.

SUPPLEMENTARY INFORMATION: Status: Attendance is limited only by the space available. The meeting room accommodates 225 people. If interested in attending the meeting, please contact the NIOSH Docket Office at nioshdocket@cdc.gov or telephone (513)533-8611. Priority for attendance will be given to the Loss Prevention/Safety representatives from businesses within the Retail, Wholesale and Warehouse industries. Other requests to attend the meeting will then be accommodated on a first-come basis.

Registration and information on the Workshop can be found at the University of Cincinnati Web site http://www.eh.uc.edu/MMHworkshop.

Attendees: Industry/safety/loss prevention representatives from the Retail, Wholesale and Warehouse industries who believe there should be a better way of moving materials and containers in their businesses.

Manufacturers/vendors of MMH equipment who desire to partner with one or more Retail, Wholesale and Warehouse industries to explore/develop the next generation of MMH-assisted equipment.

Practitioners/researchers who seek to partner with businesses in implementing and evaluating MMH engineering solutions to lifting jobs in the Retail, Wholesale and Warehouse industries.

The public, insurance experts, Workers' Compensation representatives, and government representatives who are interested in reducing the injuries associated with manual lifting in jobs found in the Retail, Wholesale and Warehouse industries.

Format: Roundtable panel discussion focusing on each of nine common, but unique, Manual Materials Handling jobs.

Note: This workshop is not a sales event nor will exhibits of any kind be allowed. Any attendees who attempt to use this meeting for sales purpose will be asked to leave. This meeting is about generating new ideas for manual assist equipment that meets the needs of the business community identified as Retail, Wholesale and Warehousing.

FOR FURTHER INFORMATION CONTACT: Vern Anderson, NIOSH, MS-C14, Robert A. Taft Laboratories, 4676 Columbia Parkway, Cincinnati, Ohio 45236, telephone (513)533-8319, E-mail: vanderson@cdc.gov.

Dated: June 15, 2011.
Tanya Popovic,
Deputy Associate Director for Science, Centers for Disease Control and Prevention.

[FR Doc. 2011-15840 Filed 6-23-11; 8:45 am]

BILLING CODE 4163-19-P